DEPARTMENT OF THE INTERIOR

National Park Service

[NPS-WASO-NAGPRA-12448; PCU00RP14.R50000-PPWOCRADN0]

Notice of Inventory Completion: Yale Peabody Museum of Natural History, New Haven, CT

AGENCY: National Park Service, Interior.

ACTION: Notice.

SUMMARY: The Yale Peabody Museum of Natural History has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Yale Peabody Museum of Natural History. Repatriation of the human remains to the Indian tribes stated below may occur if no additional claimants come forward.

DATES: Representatives of any Indian tribe that believes it has a cultural affiliation with the human remains should contact the Yale Peabody Museum of Natural History at the address below by April 29, 2013.

ADDRESSES: Professor Derek E.G. Briggs, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains and associated funerary objects in the possession of the Yale Peabody Museum of Natural History. The human remains were removed from Memaloose Island and The Dalles, OR.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by the Yale Peabody Museum of Natural History professional staff in consultation with representatives of the Confederated Tribes and Bands of the Yakama Nation and the Confederated Tribes of the Warm Springs Reservation of Oregon.

History and Description of the Remains

In 1871, human remains representing, at minimum, one individual were collected in The Dalles, OR, by the Yale College Scientific Expedition, led by Othniel C. Marsh. These human remains were transferred to the Yale Peabody Museum of Natural History in 1872. No known individuals were identified. No associated funerary objects are present.

Because the human remains exhibit cultural modification (cranial reshaping) typical of Native American remains found in this region, the human remains are believed to be Native American. Based on historical records, museum catalog records, the geographic origin of the remains, and the description of traditional territory, these human remains are believed to be culturally affiliated with the Confederated Tribes and Bands of the Yakama Nation and the Confederated Tribes of the Warm Springs Reservation of Oregon.

In 1871, human remains representing, at minimum, 45 individuals were removed from Memaloose Island near The Dalles, OR, by the Yale College Scientific Expedition. The human remains were transferred to the Yale Peabody Museum of Natural History in February of 1873 by Oscar Harger, a student on the Expedition. No known individuals were identified. The 11 associated funerary objects are stones, a copper rod, glass and shell beads, a copper bead necklace fragment, and an incised bone artifact fragment.

Based on historical records, museum catalog records, the geographic origin of the remains, and the description of traditional territory, these human remains are believed to be culturally affiliated with the Confederated Tribes and Bands of the Yakama Nation and the Confederated Tribes of the Warm Springs Reservation of Oregon.

In 1874, human remains representing, at minimum, 226 individuals were removed from Memaloose Island and The Dalles, OR, by S. R. Evans. The human remains were transferred to the Yale Peabody Museum of Natural History in 1874. No known individuals were identified. The 100 associated funerary objects are glass and shell beads, animal bones, fibers, one chert projectile point, and pebbles.

Based on historical records, museum catalog records, the geographic origin of the remains, and the description of traditional territory, these human remains are believed to be culturally affiliated with the Confederated Tribes and Bands of the Yakama Nation and the Confederated Tribes of the Warm Springs Reservation of Oregon.

Determinations Made by the Yale Peabody Museum of Natural History

Officials of the Yale Peabody Museum of Natural History have determined that:

• Pursuant to 25 U.S.C. 3001(9), the human remains described in this notice represent the physical remains of 272 individuals of Native American ancestry.

• Pursuant to 25 U.S.C. 3001(3)(A), the 111 objects described above are reasonably believed to have been placed with or near individual human remains at the time of death or later as part of the death rite or ceremony.

• Pursuant to 25 U.S.C. 3001(2), there is a relationship of shared group identity that can be reasonably traced between the Native American human remains and the Confederated Tribes and Bands of the Yakama Nation and the Confederated Tribes of the Warm Springs Reservation of Oregon.

Additional Requestors and Disposition

Representatives of any Indian tribe that believes itself to be culturally affiliated with the human remain should contact Professor Derek E.G. Briggs, Director, Yale Peabody Museum of Natural History, P.O. Box 208118, New Haven, CT 06520-8118, telephone (203) 432-3752 before April 29, 2013. Repatriation of the human remains and associated funerary objects to the Confederated Tribes and Bands of the Yakama Nation and the Confederated Tribes of the Warm Springs Reservation of Oregon may proceed after that date if no additional claimants come forward.

The Yale Peabody Museum of Natural History is responsible for notifying the Confederated Tribes and Bands of the Yakama Nation and the Confederated Tribes of the Warm Springs Reservation of Oregon that this notice has been published.

Dated: February 26, 2013.
Melanie O'Brien,
Acting Manager, National NAGPRA Program.

[FR Doc. 2013-07348 Filed 3-28-13; 8:45 am]

BILLING CODE 4312-50-P